DEPARTMENT OF HEALTH AND HUMAN SERVICES

National Institutes of Health

National Institute of Allergy and Infectious Diseases; Amended Notice of Meeting

Notice is hereby given of a change in the meeting of the National Institute of Allergy and Infectious Diseases Special Emphasis Panel, December 18, 2013, 10:00 a.m. to December 18, 2013, 06:00 p.m., National Institutes of Health, 6700B Rockledge Drive, Bethesda, MD 20817 which was published in the Federal Register on November 29, 2013, 78 FR 71628.

The meeting notice is amended to change the date of the meeting from December 18, 2013 to December 17, 2013. The meeting is closed to the public.

Dated: December 4, 2013.
David Clary,
Program Analyst, Office of Federal Advisory Committee Policy.

[FR Doc. 2013-29285 Filed 12-6-13; 8:45 am]

BILLING CODE 4140-01-P